DEPARTMENT OF STATE

[Public Notice 8966]

Notice of Proposal To Extend the Agreement Between the Government of United States of America and the Government of the Republic of Nicaragua Concerning the Imposition of Import Restrictions on Archaeological Material From the Pre-Hispanic Cultures of the Republic of Nicaragua

The Government of the Republic of Nicaragua has informed the Government of the United States of America of its interest in an extension of the Agreement Between the Government of United States of America and the Government of the Republic of Nicaragua Concerning the Imposition of Import Restrictions on Archaeological Material from the Pre-Hispanic Cultures of the Republic of Nicaragua (“Agreement”).

Pursuant to the authority vested in the Assistant Secretary of State for Educational and Cultural Affairs, and pursuant to the requirement under 19 U.S.C. 2602(f)(1), an extension of this Agreement is hereby proposed.

Pursuant to 19 U.S.C. 2602(f)(2), the views and recommendations of the Cultural Property Advisory Committee regarding this proposal will be requested.

A copy of the Agreement, the Designated List of restricted categories of material, and related information can be found at the following Web site: http://culturalheritage.state.gov.

Dated: November 25, 2014.
Evan Ryan,
Assistant Secretary, Bureau of Educational and Cultural Affairs, U.S. Department of State.

[FR Doc. 2014-29213 Filed 12-11-14; 8:45 am]

BILLING CODE 4710-05-P